DEPARTMENT OF LABOR

Employment and Training Administration

[TA-W-70,907]

TRW Automotive, Kelsey-Hayes Company, NABS Division, Mt. Vernon, OH; Amended Certification Regarding Eligibility To Apply for Worker Adjustment Assistance

In accordance with Section 223 of the Trade Act of 1974, as amended (“Act”), 19 U.S.C. 2273, the Department of Labor issued a Certification of Eligibility to Apply for Worker Adjustment Assistance on August 25, 2009, applicable to workers of TRW Automotive, NABS Division, Mt. Vernon, Ohio. The notice was published in the Federal Register on November 5, 2009 (74 FR 57340).

At the request of the State agency, the Department reviewed the certification for workers of the subject firm. The workers are engaged in the production of brake components such as brake cylinders for the automotive industry.

Information shows that some workers separated from employment at the subject firm had their wages reported under a separated unemployment insurance (UI) tax account under the name Kelsey-Hayes Company, a subsidiary of TRW Automotive.

Accordingly, the Department is amending this certification to properly reflect this matter.

The intent of the Department's certification is to include all workers of the subject firm who were adversely affected by increased imports of brake components such as brake cylinders for the automotive industry.

The amended notice applicable to TA-W-70,907 is hereby issued as follows:

All workers of TRW Automotive, Kelsey-Hayes Company, NABS Division, Mt. Vernon, Ohio, who became totally or partially separated from employment on or after June 2, 2008 through August 25, 2011, and all workers in the group threatened with total or partial separation from employment on date of certification through two years from the date of certification, are eligible to apply for adjustment assistance under Chapter 2 of Title II of the Trade Act of 1974, as amended.

Signed at Washington, DC this 22nd day of June 2010.
Elliott S. Kushner,
Certifying Officer, Division of Trade Adjustment Assistance.

[FR Doc. 2010-16018 Filed 6-30-10; 8:45 am]

BILLING CODE 4510-FN-P